POSTAL SERVICE

Addition of Competitive International Merchandise Return Service Agreements With Foreign Postal Operators to Competitive Product List

AGENCY: Postal Service™.

ACTION: Notice.

SUMMARY: The Postal Service hereby provides notice that it has filed a request with the Postal Regulatory Commission to add Competitive International Merchandise Return Service Agreements with Foreign Postal Operators to the competitive product list.

DATES: Effective date: July 17, 2015.

FOR FURTHER INFORMATION CONTACT: Caroline Brownlie, 202-268-3010.

SUPPLEMENTARY INFORMATION: On July 10, 2015, the United States Postal Service® filed with the Postal Regulatory Commission a Request of the United States Postal Service to add Competitive International Merchandise Return Service Agreements with Foreign Postal Operators to its Competitive Product List, pursuant to 39 U.S.C. 3642. Documents pertinent to this request are available at http://www.prc.gov, Docket No. MC2015-68 and Docket No. CP2015-99.

Stanley F. Mires,
Attorney, Federal Compliance.

[FR Doc. 2015-17532 Filed 7-16-15; 8:45 am]

BILLING CODE 7710-12-P